COMMITTEE FOR THE IMPLEMENTATION OF TEXTILE AGREEMENTS

Amendment of Import Limits for Certain Cotton, Wool, Man-Made Fiber, Silk Blend and Other Vegetable Fiber Textiles and Textile Products Produced or Manufactured in the People's Republic of China

March 14, 2002.

AGENCY: Committee for the Implementation of Textile Agreements (CITA).

ACTION: Issuing a directive to the Commissioner of Customs amending the 2002 limits.

EFFECTIVE DATE: March 19, 2002.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The 2002 import limits for textile products, produced or manufactured in China and exported during the period January 1, 2002 through December 31, 2002 were published on December 28, 2001 (see 66 FR 67229). That directive implemented stages one, two and three of integration and agreed annual growth, but did not apply accelerated growth. This directive amends these import limits for the application of accelerated growth, as provided by the Agreement on Textiles and Clothing (ATC).

In the letter published below, the Chairman of CITA directs the Commissioner of Customs to amend the 2002 limits.

A description of the textile and apparel categories in terms of HTS numbers is available in the CORRELATION: Textile and Apparel Categories with the Harmonized Tariff Schedule of the United States (see Federal Register notice 66 FR 65178, published on December 18, 2001). Also see 66 FR 67229, published on December 28, 2001.

D. Michael Hutchinson
Acting Chairman, Committee for the Implementation of Textile Agreements.

Committee for the Implementation of Textile Agreements

March 14, 2002.

Commissioner of Customs,

Department of the Treasury, Washington, DC 20229.

Dear Commissioner: Pursuant to Section 204 of the Agricultural Act of 1956, as amended (7 U.S.C. 1854); Executive Order 11651 of March 3, 1972, as amended; and the Uruguay Round Agreement on Textiles and Clothing (ATC), this directive amends, but does not cancel, the directive issued to you on December 20, 2001. You are directed to prohibit, effective on March 19, 2002, entry into the United States for consumption and withdrawal from warehouse for consumption of cotton, wool, man-made fiber, silk blend and other vegetable fiber textiles and textile products in the following categories, produced or manufactured in China and exported during the twelve-month period beginning on January 1, 2002 and extending through December 31, 2002, in excess of the following levels of restraint:

Category | Twelve-month limit
Group I |
200, 218, 219, 226, 237, 239pt. ¹, 300/301, 313-315, 317/326, 331pt. ², 333-336, 338/339, 340-342, 345, 347/348, 351, 352, 359-C ³, 359-V ⁴, 360-363, 410, 433-436, 438, 440, 442-444, 445/446, 447, 448, 611, 613-615, 617, 631pt. ⁵, 633-636, 638/639, 640-643, 644, 645/646, 647, 648, 651, 652, 659-C ⁶, 659-H ⁷, 659-S ⁸, 666pt. ⁹, 845 and 846, as a group | 1,170,457,405 square meters equivalent.
Sublevels in Group I |
200 | 813,577 kilograms.
218 | 11,948,064 square meters.
219 | 2,634,635 square meters.
226 | 11,963,162 square meters.
237 | 2,227,977 dozen.
300/301 | 2,402,897 kilograms.
313 | 44,735,541 square meters.
314 | 53,877,550 square meters.
315 | 140,495,013 square meters.
317/326 | 23,782,544 square meters of which not more than 4,550,068 square meters shall be in Category 326.
331pt. | 2,192,728 dozen pairs.
333 | 109,278 dozen.
334 | 342,206 dozen.
335 | 394,746 dozen.
336 | 188,676 dozen.
338/339 | 2,372,699 dozen of which not more than 1,801,137 dozen shall be in Categories 338-S/339-S ¹⁰.
340 | 813,136 dozen of which not more than 406,569 dozen shall be in Category 340-Z ¹¹.
341 | 704,576 dozen of which not more than 422,746 dozen shall be in Category 341-Y ¹².
342 | 278,256 dozen.
345 | 129,886 dozen.
347/348 | 2,362,066 dozen.
351 | 621,579 dozen.
352 | 1,672,806 dozen.
359-C | 674,171 kilograms.
359-V | 951,145 kilograms.
360 | 8,644,386 numbers of which not more than 5,896,306 numbers shall be in Category 360-P ¹³.
361 | 4,688,174 numbers.
362 | 7,737,506 numbers.
363 | 22,707,363 numbers.
410 | 1,032,404 square meters of which not more than 827,584 square meters shall be in Category 410-A ¹⁴ and not more than 827,584 square meters shall be in Category 410-B ¹⁵.
433 | 21,197 dozen.
434 | 13,554 dozen.
435 | 24,893 dozen.
436 | 15,336 dozen.
438 | 26,838 dozen.
440 | 38,341 dozen of which not more than 21,909 dozen shall be in Category 440-M ¹⁶.
442 | 40,587 dozen.
443 | 131,123 numbers.
444 | 213,825 numbers.
445/446 | 288,998 dozen.
447 | 71,789 dozen.
448 | 22,647 dozen.
611 | 5,885,543 square meters.
613 | 8,328,038 square meters.
614 | 13,086,915 square meters.
615 | 27,244,580 square meters.
617 | 19,035,513 square meters.
631pt. | 319,220 dozen pairs.
633 | 61,815 dozen.
634 | 672,503 dozen.
635 | 709,375 dozen.
636 | 570,965 dozen.
638/639 | 2,518,205 dozen.
640 | 1,409,591 dozen.
641 | 1,335,296 dozen.
642 | 368,281 dozen.
643 | 543,550 numbers.
644 | 3,621,177 numbers.
645/646 | 830,540 dozen.
647 | 1,623,261 dozen.
648 | 1,159,809 dozen.
651 | 834,261 dozen of which not more than 146,877 dozen shall be in Category 651-B ¹⁷.
652 | 3,087,762 dozen.
659-C | 441,666 kilograms.
659-H | 3,087,149 kilograms.
659-S | 677,928 kilograms.
666pt. | 518,981 kilograms.
845 | 2,475,770 dozen.
846 | 185,087 dozen.
Group II |
332, 359-O ¹⁸, 459pt. ¹⁹ and 659-O ²⁰, as a group | 40,821,172 square meters equivalent.
Group III |
201, 220, 224-V ²¹, 224-O ²², 225, 227, 369-O ²³, 400, 414, 469pt. ²⁴, 603, 604-O ²⁵, 618-620 and 624-629, as a group | 48,213,146 square meters equivalent.
Sublevels in Group III |
224-V | 3,963,954 square meters.
225 | 6,838,577 square meters.
Group IV |
852 | 373,334 square meters equivalent.
Levels not in a Group |
369-S ²⁶ | 617,889 kilograms.
863-S ²⁷ | 8,805,437 numbers.

¹ Category 239pt.: only HTS number 6209.20.5040 (diapers).
² Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510.
³ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010.
⁴ Category 359-V: only HTS numbers 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070.
⁵ Category 631pt.: all HTS numbers except 6116.10.1730, 6116.10.4820, 6116.10.5520, 6116.10.7520, 6116.93.8800, 6116.93.9400, 6116.99.4800, 6116.99.5400 and 6116.99.9530.
⁶ Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁷ Category 659-H: only HTS numbers 6502.00.9030, 6504.00.9015, 6504.00.9060, 6505.90.5090, 6505.90.6090, 6505.90.7090 and 6505.90.8090.
⁸ Category 659-S: only HTS numbers 6112.31.0010, 6112.31.0020, 6112.41.0010, 6112.41.0020, 6112.41.0030, 6112.41.0040, 6211.11.1010, 6211.11.1020, 6211.12.1010 and 6211.12.1020.
⁹ Category 666pt.: all HTS numbers except 5805.00.4010, 6301.10.0000, 6301.40.0010, 6301.40.0020, 6301.90.0010, 6302.53.0010, 6302.53.0020, 6302.53.0030, 6302.93.1000, 6302.93.2000, 6303.12.0000, 6303.19.0010, 6303.92.1000, 6303.92.2010, 6303.92.2020, 6303.99.0010, 6304.11.2000, 6304.19.1500, 6304.19.2000, 6304.91.0040, 6304.93.0000, 6304.99.6020, 6307.90.9984, 9404.90.8522 and 9404.90.9522.
¹⁰ Category 338-S: all HTS numbers except 6109.10.0012, 6109.10.0014, 6109.10.0018 and 6109.10.0023; Category 339-S: all HTS numbers except 6109.10.0040, 6109.10.0045, 6109.10.0060 and 6109.10.0065.
¹¹ Category 340-Z: only HTS numbers 6205.20.2015, 6205.20.2020, 6205.20.2050 and 6205.20.2060.
¹² Category 341-Y: only HTS numbers 6204.22.3060, 6206.30.3010, 6206.30.3030 and 6211.42.0054.
¹³ Category 360-P: only HTS numbers 6302.21.3010, 6302.21.5010, 6302.21.7010, 6302.21.9010, 6302.31.3010, 6302.31.5010, 6302.31.7010 and 6302.31.9010.
¹⁴ Category 410-A: only HTS numbers 5111.11.3000, 5111.11.7030, 5111.11.7060, 5111.19.2000, 5111.19.6020, 5111.19.6040, 5111.19.6060, 5111.19.6080, 5111.20.9000, 5111.30.9000, 5111.90.3000, 5111.90.9000, 5212.11.1010, 5212.12.1010, 5212.13.1010, 5212.14.1010, 5212.15.1010, 5212.21.1010, 5212.22.1010, 5212.23.1010, 5212.24.1010, 5212.25.1010, 5311.00.2000, 5407.91.0510, 5407.92.0510, 5407.93.0510, 5407.94.0510, 5408.31.0510, 5408.32.0510, 5408.33.0510, 5408.34.0510, 5515.13.0510, 5515.22.0510, 5515.92.0510, 5516.31.0510, 5516.32.0510, 5516.33.0510, 5516.34.0510 and 6301.20.0020.
¹⁵ Category 410-B: only HTS numbers 5007.10.6030, 5007.90.6030, 5112.11.3030, 5112.11.3060, 5112.11.6030, 5112.11.6060, 5112.19.6010, 5112.19.6020, 5112.19.6030, 5112.19.6040, 5112.19.6050, 5112.19.6060, 5112.19.9510, 5112.19.9520, 5112.19.9530, 5112.19.9540, 5112.19.9550, 5112.19.9560, 5112.20.3000, 5112.30.3000, 5112.90.3000, 5112.90.9010, 5112.90.9090, 5212.11.1020, 5212.12.1020, 5212.13.1020, 5212.14.1020, 5212.15.1020, 5212.21.1020, 5212.22.1020, 5212.23.1020, 5212.24.1020, 5212.25.1020, 5309.21.2000, 5309.29.2000, 5407.91.0520, 5407.92.0520, 5407.93.0520, 5407.94.0520, 5408.31.0520, 5408.32.0520, 5408.33.0520, 5408.34.0520, 5515.13.0520, 5515.22.0520, 5515.92.0520, 5516.31.0520, 5516.32.0520, 5516.33.0520 and 5516.34.0520.
¹⁶ Category 440-M: only HTS numbers 6203.21.9030, 6203.23.0030, 6205.10.1000, 6205.10.2010, 6205.10.2020, 6205.30.1510, 6205.30.1520, 6205.90.3020, 6205.90.4020 and 6211.31.0030.
¹⁷ Category 651-B: only HTS numbers 6107.22.0015 and 6108.32.0015.
¹⁸ Category 359-O: all HTS numbers except 6103.42.2025, 6103.49.8034, 6104.62.1020, 6104.69.8010, 6114.20.0048, 6114.20.0052, 6203.42.2010, 6203.42.2090, 6204.62.2010, 6211.32.0010, 6211.32.0025, 6211.42.0010 (Category 359-C); 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070 (Category 359-V); 6115.19.8010, 6117.10.6010, 6117.20.9010, 6203.22.1000, 6204.22.1000, 6212.90.0010, 6214.90.0010, 6406.99.1550, 6505.90.1525, 6505.90.1540, 6505.90.2060 and 6505.90.2545.
¹⁹ Category 459pt.: all HTS numbers except 6115.19.8020, 6117.10.1000, 6117.10.2010, 6117.20.9020, 6212.90.0020, 6214.20.0000, 6405.20.6030, 6405.20.6060, 6405.20.6090, 6406.99.1505 and 6406.99.1560.
²⁰ Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010, 6211.12.1020 (Category 659-S); 6115.11.0010, 6115.12.2000, 6117.10.2030, 6117.20.9030, 6212.90.0030, 6214.30.0000, 6214.40.0000, 6406.99.1510 and 6406.99.1540.
²¹ Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020.
²² Category 224-O: all HTS numbers except 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020 (Category 224-V).
²³ Category 369-O: all HTS numbers except 6307.10.2005 (Category 369-S); 4202.12.4000, 4202.12.8020, 4202.12.8060, 4202.22.4020, 4202.22.4500, 4202.22.8030, 4202.32.4000, 4202.32.9530, 4202.92.1500, 4202.92.3016, 4202.92.6091, 5601.10.1000, 5601.21.0090, 5701.90.1020, 5701.90.2020, 5702.10.9020, 5702.39.2010, 5702.49.1020, 5702.49.1080, 5702.59.1000, 5702.99.1010, 5702.99.1090, 5705.00.2020, 5805.00.3000, 5807.10.0510, 5807.90.0510, 6301.30.0010, 6301.30.0020, 6302.51.1000, 6302.51.2000, 6302.51.3000, 6302.51.4000, 6302.60.0010, 6302.60.0030, 6302.91.0005, 6302.91.0025, 6302.91.0045, 6302.91.0050, 6302.91.0060, 6303.11.0000, 6303.91.0010, 6303.91.0020, 6304.91.0020, 6304.92.0000, 6305.20.0000, 6306.11.0000, 6307.10.0020, 6307.10.1090, 6307.90.3010, 6307.90.4010, 6307.90.5010, 6307.90.8910, 6307.90.8945, 6307.90.9905, 6307.90.9982, 6406.10.7700, 9404.90.1000, 9404.90.8040 and 9404.90.9505.
²⁴ Category 469pt.: all HTS numbers except 5601.29.0020, 5603.94.1010, 6304.19.3040, 6304.91.0050, 6304.99.1500, 6304.99.6010, 6308.00.0010 and 6406.10.9020.
²⁵ Category 604-O: all HTS numbers except 5509.32.0000 (Category 604-A).
²⁶ Category 369-S: only HTS number 6307.10.2005.
²⁷ Category 863-S: only HTS number 6307.10.2015.

The limits set forth above are subject to adjustment pursuant to the provisions of the ATC and administrative arrangements notified to the Textiles Monitoring Body.

The Committee for the Implementation of Textile Agreements has determined that these actions fall within the foreign affairs exception to the rulemaking provisions of 5 U.S.C. 553(a)(1).

D. Michael Hutchinson,

Acting Committee for the Implementation of Textile Agreements.

[FR Doc. 02-6595 Filed 3-18-02; 8:45 am]

BILLING CODE 3510-DR-S